DEPARTMENT OF JUSTICE

[OMB 1140-0075]

Agency Information Collection Activities; Proposed eCollection eComments Requested; Revision of a Previously Approved Collection; Explosives Transactions Involving Limited Permittees—(ATF Forms 5400.4 and 5400.30)

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until September 2, 2025.

FOR FURTHER INFORMATION CONTACT: If you have additional comments especially on the estimated public burden or associated response time, suggestions, or need a copy of the proposed information collection instrument with instructions or additional information, contact: Michael O'Lena, EIPB, either by mail at 99 New York Avenue NE, Room 6.N.518, Washington, DC 20226, by email at eipb-informationcollection@atf.gov, or telephone at (202) 648-7120.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Specific requirements for licensees and permittees to distribute explosives materials in transactions involving limited permittees, and to report lost or stolen Intrastate Purchase of Explosives Coupons. This information collection is contained in 27 CFR 555.34, 555.105, and 555.125, and 555.126. Information Collection (IC) OMB 1140-0075 is being revised to streamline the collections involving explosives limited permittees. There previously were four collections (OMB control numbers 1140-0025, 1140-0075, 1140-0077, and 1140-0079), which have been combined, simplified, and updated to remove duplicative elements, and adjusted to reflect a regulatory change currently being finalized. These changes reduced the collective burden arising from these four ICRs. This ICR now includes three collection requirements: submitting an authorized persons list, completing the Form 5400.4, Limited Permittee Transaction Report (LPTR), and reporting lost or stolen ATF Form 5400.30s, Intrastate Purchase of Explosives Coupons (IPECs). Distributors and carriers no longer have to verify the identity of the person accepting explosives delivered by common carriers, and distributors can note the identification information they do collect directly on the LPTR, thereby reducing the burden. The LPTR has also been substantially revised to reflect the streamlined information collection requirements, decreasing the amount of time for record-keeping. In addition, the number of limited permittees has decreased significantly since the previous renewal periods for the original ICRs, from 100 respondents to 13, and the number of responses has also significantly decreased. The time burden for this combined ICR has therefore decreased, due both to streamlining the combined collections and to the decrease in respondents and responses, from 1 hour per respondent or 254 hours total per year, to 25 minutes per respondent or 9.75 hours total per year.

Overview of This Information Collection

1. Type of Information Collection: Revision of a previously approved collection.

2. The Title of the Form/Collection: Explosives Transactions Involving Limited Permittees.

3. The agency form number, if any, and the applicable component of the Department sponsoring the collection: Form number: ATF Forms 5400.4 and 5400.30. Component: Bureau of Alcohol, Tobacco, Firearms and Explosives, U.S. Department of Justice.

4. Affected public who will be asked or required to respond, as well as the obligation to respond: Affected Public: Individuals or households, Private Sector-for or not for profit institutions. The obligation to respond is required to obtain/retain a benefit, voluntary.

5. An estimate of the total number of respondents and the amount of time estimated for an average respondent to respond: An estimated 13 respondents will respond to this collection once annually (by submitting an authorized persons list) and twice annually (by submitting a completed 5400.4) for a total number of 13 sets of responses. It will take each respondent approximately 0.75 hours to complete their responses.

6. An estimate of the total annual burden (in hours) associated with the collection: The estimated annual public burden associated with this collection is 9.75 hours, which is equal to 13 total response sets (13 submitted authorized persons list and 26 completed 5400.4) * 0.75 hours (0.0833 hours for authorized persons list and 0.33 to complete form 5400.4).

7. An estimate of the total annual cost burden associated with the collection, if applicable: $0.

Total Burden Hours
Activity | Number of respondents | Frequency | Total annual responses | Time per response (hours) | Total annual burden (hours)
Submit authorized persons list | 13 | 1 | 13 | 0.0833 | 1.083
Complete LPTR | 13 | 2 | 26 | 0.33 | 8.667
Report coupon theft/loss | 13 | 0 | 0 | 0.33 (if done; but since no responses, this is 0) | 0
Total | 13 | 1 (set of responses per respondent) | 13 (sets of responses) | 0.75 hours (per response set) | 9.75

If additional information is required contact: Darwin Arceo, Department Clearance Officer, United States Department of Justice, Justice Management Division, Policy and Planning Staff, Two Constitution Square, 145 N Street NE, 4W-218, Washington, DC.

Dated: June 26, 2025.
Darwin Arceo,
Department Clearance Officer for PRA, U.S. Department of Justice.

[FR Doc. 2025-12225 Filed 6-30-25; 8:45 am]

BILLING CODE 4410-FY-P